DEPARTMENT OF TRANSPORTATION

Federal Aviation Administration

14 CFR Part 97

[Docket No. 30687 Amdt. No 3340]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 1, 2009. The compliance date for each SIAP, associated Takeoff Minimums, and ODP is specified in the amendatory provisions.

The incorporation by reference of certain publications listed in the regulations is approved by the Director of the Federal Register as of October 1, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 18, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 22 OCT 2009

Quinhagak, AK, Quinhagak, RNAV (GPS) RWY 12, Orig

Quinhagak, AK, Quinhagak, RNAV (GPS) RWY 30, Orig

Quinhagak, AK, Quinhagak, Takeoff Minimums and Obstacle DP, Orig

Alabaster, AL, Shelby County, VOR-A, Amdt 7

Birmingham, AL, Birmingham-Shuttlesworth Intl, ILS OR LOC RWY 6, ILS RWY 6 (CAT II) Amdt 42

Birmingham, AL, Birmingham-Shuttlesworth Intl, ILS OR LOC/DME RWY 24, Amdt 2

Birmingham, AL, Birmingham-Shuttlesworth Intl, LOC RWY 18, Amdt 1

Birmingham, AL, Birmingham-Shuttlesworth Intl, RNAV (GPS) RWY 6, Amdt 1

Birmingham, AL, Birmingham-Shuttlesworth Intl, RNAV (GPS) RWY 18, Amdt 1

Birmingham, AL, Birmingham-Shuttlesworth Intl, RNAV (GPS) RWY 24, Amdt 2

Birmingham, AL, Birmingham-Shuttlesworth Intl, RNAV (GPS) RWY 36, Amdt 1

Demopolis, AL, Demopolis Muni, NDB RWY 4, Amdt 1

Napa, CA, Napa County, RNAV (GPS) Z RWY 36L, Orig-A

Tracy, CA, Tracy Muni, GPS RWY 25, Orig, CANCELLED

Tracy, CA, Tracy Muni, NDB RWY 12, Amdt 1

Tracy, CA, Tracy Muni, RNAV (GPS) RWY 26, Orig

Tracy, CA, Tracy Muni, Takeoff Minimums and Obstacle DP, Amdt 3

Tracy, CA, Tracy Muni, VOR/DME RWY 26, Orig

Tracy, CA, Tracy Muni, VOR OR GPS-A, Amdt 5, CANCELLED

Twentynine Palms, CA, Twentynine Palms, VOR RWY 26, Amdt 2A

Aspen, CO, Aspen-Pitkin Co/Sardy Field, LOC/DME-E, Amdt 1

Gunnison, CO, Gunnison-Crested Butte Rgnl, ILS OR LOC RWY 6, Amdt 5

Willimantic, CT, Windham, LOC RWY 27, Amdt 3

Washington, DC Washington Dulles Intl, RNAV (RNP) Z RWY 1C, Orig-C

Washington, DC Washington Dulles Intl, RNAV (RNP) Z RWY 1R, Orig-A

Washington, DC Washington Dulles Intl, RNAV (RNP) Z RWY 19C, Orig-B

Washington, DC Washington Dulles Intl, RNAV (RNP) Z RWY 19L, Orig-A

Wilmington, DE, New Castle, GPS RWY 9, Orig-B, CANCELLED

Wilmington, DE, New Castle, GPS RWY 27, Orig-A, CANCELLED

Wilmington, DE, New Castle, RNAV (GPS) RWY 1, Orig

Wilmington, DE, New Castle, RNAV (GPS) RWY 9, Orig

Wilmington, DE, New Castle, RNAV (GPS) RWY 19, Orig

Wilmington, DE, New Castle, RNAV (GPS) RWY 27, Orig

Miami, FL, Kendall-Tamiami Executive, RNAV (GPS) RWY 9L, Orig

Miami, FL, Kendall-Tamiami Executive, RNAV (GPS) RWY 27L, Amdt 1

Miami, FL, Kendall-Tamiami Executive, RNAV (GPS) RWY 27R, Orig

Titusville, FL, Space Coast Rgnl, ILS OR LOC RWY 36, Amdt 11

Titusville, FL, Space Coast Rgnl, RNAV (GPS) RWY 36, Orig

Atlanta, GA, Hartsfield-Jackson Atlanta Intl, ILS OR LOC RWY 26L, Amdt 19B

Atlanta, GA, Hartsfield-Jackson Atlanta Intl, ILS OR LOC RWY 26R, ILS RWY 26R (CAT II), Amdt 5

Atlanta, GA, Hartsfield-Jackson Atlanta Intl, ILS PRM RWY 26L (Simultaneous Close Parallel), Orig-A

Atlanta, GA, Hartsfield-Jackson Atlanta Intl, ILS PRM RWY 26R (Simultaneous Close Parallel), ILS PRM RWY 26R (CAT II), Amdt 1

Atlanta, GA, Newnan Coweta County, LOC RWY 32, Amdt 2

Atlanta, GA, Newnan Coweta County, RNAV (GPS) RWY 14, Amdt 1

Atlanta, GA, Newnan Coweta County, RNAV (GPS) RWY 32, Amdt 2

Brunswick, GA, Brunswick Golden Isles, ILS OR LOC RWY 7, Amdt 10

Cochran, GA, Cochran, RNAV (GPS) RWY 29, Orig

Cochran, GA, Cochran, Takeoff Minimums and Obstacle DP, Amdt 2

Cochran, GA, Cochran, VOR/DME RWY 5, Amdt 6

Jefferson, GA, Jackson County, RNAV (GPS) RWY 17, Amdt 1

Jefferson, GA, Jackson County, RNAV (GPS) RWY 35, Amdt 1

Jefferson, GA, Jackson County, Takeoff Minimums and Obstacle DP, Amdt 2

Jefferson, GA, Jackson County, VOR/DME RWY 35, Amdt 1

Jesup, GA, Jesup-Wayne County, NDB RWY 11, Amdt 2

Jesup, GA, Jesup-Wayne County, NDB RWY 29, Amdt 3

Jesup, GA, Jesup-Wayne County, RNAV (GPS) RWY 11, Orig

Jesup, GA, Jesup-Wayne County, RNAV (GPS) RWY 29, Orig

Jesup, GA, Jesup-Wayne County, Takeoff Minimums and Obstacle DP, Orig

Thomaston, GA, Thomaston-Upson County, ILS OR LOC RWY 30, Amdt 2

Thomaston, GA, Thomaston-Upson County, NDB RWY 30, Amdt 2

Thomaston, GA, Thomaston-Upson County, RNAV (GPS) RWY 12, Orig

Jerome, ID, Jerome County, GPS RWY 8, Orig, CANCELLED

Jerome, ID, Jerome County, GPS RWY 26, Orig, CANCELLED

Jerome, ID, Jerome County, RNAV (GPS) RWY 9, Orig

Jerome, ID, Jerome County, RNAV (GPS) RWY 27, Orig

Jerome, ID, Jerome County, Takeoff Minimums and Obstacle DP, Amdt 2

Jerome, ID, Jerome County, VOR/DME-A, Amdt 2

Fairfield, IL, Fairfield Muni, GPS RWY 9, Orig, CANCELLED

Fairfield, IL, Fairfield Muni, RNAV (GPS) RWY 9, Orig

Bogalusa, LA, George R Carr Memorial Air Fld, NDB OR GPS RWY 18, Amdt 3A, CANCELLED

Bogalusa, LA, George R Carr Memorial Air Fld, RNAV (GPS) RWY 18, Orig

Sault Ste Marie, MI, Chippewa County Intl, Takeoff Minimums and Obstacle DP, Orig

Boonville, MO, Jesse Viertel Memorial, NDB RWY 18, Amdt 10A, CANCELLED

Malden, MO, Malden Rgnl, RNAV (GPS) RWY 14, Orig

Malden, MO, Malden Rgnl, RNAV (GPS) RWY 18, Amdt 1

Malden, MO, Malden Rgnl, RNAV (GPS) RWY 32, Amdt 1

Malden, MO, Malden Rgnl, RNAV (GPS) RWY 36, Amdt 1

Malden, MO, Malden Rgnl, Takeoff Minimums and Obstacle DP, Orig

Malden, MO, Malden Rgnl, VOR RWY 32. Amdt 9

Malden, MO, Malden Rgnl, VOR/DME RWY 14. Amdt 1

Philadelphia, MS, Philadelphia Muni, RNAV (GPS) RWY 18, Amdt 1

Philadelphia, MS, Philadelphia Muni, RNAV (GPS) RWY 36, Amdt 1

Philadelphia, MS, Philadelphia Muni, Takeoff Minimums and Obstacle DP, Amdt 2

Greensboro, NC, Piedmont Triad Intl, ILS OR LOC RWY 5L, ILS RWY 5L (CAT II), ILS RWY 5L (CAT III), Orig

Greensboro, NC, Piedmont Triad Intl, ILS OR LOC RWY 5R, ILS RWY 5R (CAT II), Amdt 7

Greensboro, NC, Piedmont Triad Intl, ILS OR LOC RWY 23R, Orig

Greensboro, NC, Piedmont Triad Intl, RNAV (GPS) RWY 5L, Orig

Greensboro, NC, Piedmont Triad Intl, RNAV (GPS) RWY 23R, Orig

Reidsville, NC, Rockingham County NC Shiloh, GPS RWY 31, Orig, CANCELLED

Reidsville, NC, Rockingham County NC Shiloh, NDB RWY 31, Amdt 5

Reidsville, NC, Rockingham County NC Shiloh, RNAV (GPS) RWY 13, Orig

Reidsville, NC, Rockingham County NC Shiloh, RNAV (GPS) RWY 31, Orig

Reidsville, NC, Rockingham County NC Shiloh, Takeoff Minimums and Obstacle DP, Amdt 2

Reidsville, NC, Rockingham County NC Shiloh, VOR/DME-A, Amdt 9

Potsdam, NY, Potsdam Muni/Damon Fld, Takeoff Minimums and Obstacle DP, Orig

Rochester, NY, Greater Rochester Intl, ILS OR LOC RWY 4, ILS RWY 4 (CAT II), Amdt 20

Boise City, OK, Boise City, Takeoff Minimums and Obstacle DP, Orig

Columbia, SC, Jim Hamilton L.B. Owens, RADAR-1, Amdt 2

Brownfield, TX, Terry County, GPS RWY 2, Amdt 1A, CANCELLED

Brownfield, TX, Terry County, RNAV (GPS) RWY 2, Orig

Brownfield, TX, Terry County, RNAV (GPS) RWY 20, Orig

Brownfield, TX, Terry County, Takeoff Minimums and Obstacle DP, Orig

Corpus Christi, TX, Corpus Christi Intl, ILS OR LOC RWY 13, Amdt 27

Corpus Christi, TX, Corpus Christi Intl, ILS OR LOC RWY 35, Amdt 12

Corpus Christi, TX, Corpus Christi Intl, RNAV (GPS) RWY 13, Amdt 1

Floydada, TX, Floydada Muni, RNAV (GPS) RWY 17, Orig

Floydada, TX, Floydada Muni, RNAV (GPS) RWY 35, Orig

Floydada, TX, Floydada Muni, Takeoff Minimums and Obstacle DP, Orig

Houston, TX, West Houston, Takeoff Minimums and Obstacle DP, Amdt 3

Orange, TX, Orange County, NDB OR GPS-A, Amdt 1, CANCELLED

Orange, TX, Orange County, RNAV (GPS) RWY 22, Orig

Orange, TX, Orange County, Takeoff Minimums and Obstacle DP, Orig

Emporia, VA, Emporia-Greensville Rgnl, RNAV (GPS) RWY 15, Orig

Hoquiam, WA, Bowerman, RNAV (GPS) RWY 6, Amdt 1

Hoquiam, WA, Bowerman, RNAV (GPS) RWY 24, Amdt 1

Clarksburg, WV, North Central West Virginia, ILS OR LOC RWY 21, Amdt 2

Jackson, WY, Jackson Hole, RNAV (RNP) Y RWY 1, Orig-A

Jackson, WY, Jackson Hole, RNAV (RNP) Z RWY 1, Orig-B

Jackson, WY, Jackson Hole, RNAV (RNP) Z RWY 19, Orig-A

Pinedale, WY, Pinedale/Ralph Wenz Field, NDB RWY 29, Amdt 1A, CANCELLED

Pinedale, WY, Pinedale/Ralph Wenz Field, NDB-A, Orig

Pinedale, WY, Pinedale/Ralph Wenz Field, Takeoff Minimums and Obstacle DP, Amdt 2

On Monday, September 14, 2009 (74 FR 176) The FAA published several Amendments in Docket No. 30683; Amdt No. 3336 to Part 97 of the Federal Aviation Regulations under sections 97.23 and 97.33. The following entries are hereby corrected to have an effective date of October 22, 2009:

Daggett, CA, Barstow-Daggett, RNAV (GPS) RWY 22, Amdt 1

Daggett, CA, Barstow-Daggett, RNAV (GPS) RWY 26, Amdt 1

Daggett, CA, Barstow-Daggett, Takeoff Minimums and Obstacle DP, Amdt 2

Daggett, CA, Barstow-Daggett, VOR OR TACAN RWY 22, Amdt 9

[FR Doc. E9-23101 Filed 9-30-09; 8:45 am]

BILLING CODE 4910-13-P